CORPORATION FOR NATIONAL AND COMMUNITY SERVICE

Sunshine Act Meeting

The Board of Directors of the Corporation for National and Community Service gives notice of the following meeting:

DATE AND TIME: Monday, June 12, 2000, 8:30-11:30 a.m.

PLACE: The Westin Seattle, Rooms Vashon 1 & 2, 1900 Fifth Avenue, Seattle, Washington 98101.

STATUS: Open.

MATTERS TO BE CONSIDERED:

I. Chair's Opening Remarks

II. Swearing-In of New Board Members

III. Approval of March Board Meeting Minutes

IV. Status Report by the Chief Executive Officer

V. Committee Reports

A. Executive Committee

B. Management, Budget, and Governance Committee

C. Planning and Evaluation Committee

D. Communications Committee Report on Corporate Initiatives Report on AmeriCorps Alumni Activities

VI. Presentations by Officials and Projects from the State of Washington

VII. Discussion of Results of 2000 Grant Processes

A. Learn and Serve America

B. AmeriCorps

VIII. AmeriCorps*VISTA Plans

IX. Future Board Meeting Dates

X. Public Comment

XI. Adjournment

ACCOMMODATIONS: Anyone who needs an interpreter or other accommodation should notify the Corporation's contact person.

CONTACT PERSON FOR FURTHER INFORMATION: Rhonda Taylor, Deputy Director of Special Projects and Initiatives, Office of Public Liaison, Corporation for National Service, 8th Floor, Room 8619, 1201 New York Avenue NW., Washington, D.C. 20525. Phone (202) 606-5000 ext. 282. Fax (202) 565-2794. TDD: (202) 565-2799.

Dated: June 2, 2000.
Thomasenia P. Duncan,
General Counsel, Corporation for National and Community Service.

[FR Doc. 00-14368 Filed 6-2-00; 4:19 pm]

BILLING CODE 6050-28-P